DEPARTMENT OF COMMERCE

National Oceanic and Atmospheric Administration

50 CFR Part 635

[Docket No. 010710169-1226-02; I.D. 060401B]

RIN 0648-AP31

Atlantic Highly Migratory Species; Longline Fisheries

AGENCY: National Marine Fisheries Service (NMFS), National Oceanic and Atmospheric Administration (NOAA), Commerce.

ACTION: Revision to an emergency rule; request for comments.

SUMMARY: NMFS revises the emergency regulations governing the Atlantic highly migratory species (HMS) fisheries that require all vessels issued an Atlantic HMS permit to post in their wheelhouses NMFS-supplied sea turtle handling and release guidelines for pelagic longline gear to require that only such vessels fishing for Atlantic HMS that have pelagic or bottom longline gear on board post the guidelines. This revision is needed to make the regulations consistent with an August 31, 2001 revision to a term and condition of the reasonable and prudent measure identified in the incidental take statement accompanying the June 14,2001 Biological Opinion on the Atlantic HMS Fishery Management Plan and its associated fisheries. The intent of this revision is to remove the requirement that non-longline vessels post sea turtle handling and release guidelines that are specific to longline gear.

DATES: Effective September 15, 2001, through January 9, 2002. Comments must be received by November 8, 2001.

ADDRESSES: Written comments may be sent to Christopher Rogers, Acting Chief, NMFS Highly Migratory Species Management Division, 1315 East-West Highway, Silver Spring, MD 20910; or faxed to 301-713-1917. Comments will not be accepted if submitted via e-mail or the Internet. Copies of the Biological Opinion that requires this action may also be obtained from this address.

FOR FURTHER INFORMATION CONTACT: Tyson Kade or Karyl Brewster-Geisz at 301-713-2347 or via fax at 301-713-1917.

SUPPLEMENTARY INFORMATION: On June 8, 2001, (revised June 14, 2001) NMFS published a Biological Opinion (BiOp) that found that the Atlantic pelagic longline fishery is jeopardizing the continued existence of loggerhead and leatherback sea turtles. The BiOp estimated that a 55-percent reduction in bycatch mortality from the pelagic longline fishery is necessary to allow for the recovery of these two species. To achieve the necessary reduction, the BiOp required the implementation of a reasonable and prudent alternative that was composed of several elements. On July 13, 2001, NMFS issued an emergency rule (66 FR 36711) that closed the northeast distant statistical reporting area, required specific gear deployment modifications, and required that the safe handling and release guidelines for sea turtles caught in pelagic longline gear be posted aboard all vessels permitted for HMS fisheries. The emergency rule is effective until January 9, 2002.

On August 31, 2001, the June 14, 2001 BiOp was further revised with respect to a term and condition of the reasonable and prudent measure identified in the accompanying incidental take statement to limit the requirement to post the sea turtle handling and release guidelines to vessels using longline gear. The safe handling guidelines are specific to longline interactions and would not be applicable to vessels using other gear such as seines or gillnets. The costs to the government of printing and distributing guidelines to non-longline HMS vessels, and the burden on such vessels of posting those guidelines is not justified. Accordingly, NMFS is revising the regulation to apply only to permitted vessels having pelagic and bottom longline on board.

Classification

The Assistant Administrator for Fisheries (AA), under 5 U.S.C. 553(b)(3), finds that providing prior notice and opportunity for public comment on this revision would be contrary to the public interest. Without this revision, HMS vessels that do not display the sea turtle safe handling and release guidelines would be in violation of the regulations. While NMFS has supplied sea turtle safe handling and release guidelines to all longline vessels, NMFS has not supplied, and does not intend to supply, the guidelines to non-longline vessels. In order that non-longline vessels not be in technical violation, it is necessary to make this revision without prior notice and an opportunity for public comment. Because this rule relieves a restriction, under 5 U.S.C. 553(d)(1) it is not subject to a 30-day delay in effective date. The requirement for longline vessels to post the guidelines remains effective from September 15, 2001 through January 9, 2002.

Because prior notice and opportunity for public comment are not required for this final rule by 5 U.S.C. 553, or by any other law, the analytical requirements of the Regulatory Flexibility Act, 5 U.S.C. 601 et seq., are inapplicable.

This action is not significant under the meaning of Executive Order 12866.

List of Subjects in 50 CFR Part 635

Fisheries, Fishing, Fishing vessels, Foreign relations, Intergovernmental relations, Penalties, Reporting and recordkeeping requirements, Statistics, Treaties.

Dated: September 18, 2001.
William T. Hogarth,
Assistant Administrator for Fisheries, National Marine Fisheries Service.

For the reasons set out in the preamble, 50 CFR part 635 is amended as follows:

PART 635—ATLANTIC HIGHLY MIGRATORY SPECIES

1. The authority citation for part 635 continues to read as follows:

Authority: 16 U.S.C. 971 et seq. and 16 U.S.C. 1801 et seq.

2. In § 635.21, paragraph (a)(3) is suspended and a new paragraph (a)(4) is added to read as follows:

§ 635.21 Gear operation and deployment restrictions.

* * * * *

(a) * * *

(4) Effective September 15, 2001, through January 9, 2002, operators of all vessels that have pelagic or bottom longline gear on board and that have been issued, or required to have, a limited access swordfish, shark, or tuna longline category permit for use in the Atlantic Ocean including the Caribbean Sea and the Gulf of Mexico must post inside the wheelhouse the sea turtle handling and release guidelines provided by NMFS.

* * * * *

[FR Doc. 01-23795 Filed 9-21-01; 8:45 am]

BILLING CODE 3510-22-S